INTERNATIONAL TRADE COMMISSION

[Investigation Nos. 701-TA-592 and 731-TA-1400 (Final)]

Plastic Decorative Ribbon From China

Determinations

On the basis of the record ¹ developed in the subject investigations, the United States International Trade Commission(“Commission”) determines, pursuant to the Tariff Act of 1930 (“the Act”), that an industry in the United States is materially injured by reason of imports of plastic decorative ribbon from China, provided for in subheadings 3920.10.00; 3920.20.00; 3920.30.00; 3920.43.50; 3920.49.00; 3920.62.00; 3920.69.00; 3921.90.11; 3921.90.15; 3921.90.19; 3921.90.40; 3926.90.99; 4601.99.90; 4602.90.00; 5404.90.00; 5609.00.30; 5609.00.40; 6307.90.98; and 9505.90.40 of the Harmonized Tariff Schedule of the United States, that have been found by the U.S. Department of Commerce (“Commerce”) to be sold in the United States at less than fair value (“LTFV”), and to be subsidized by the government of China.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective December 27, 2017, following receipt of petitions filed with the Commission and Commerce by Berwick Offray LLC, Berwick, Pennsylvania. The final phase of the investigations was scheduled by the Commission following notification of preliminary determinations by Commerce that imports of plastic decorative ribbon from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 30, 2018 (83 FR 44302). The hearing was held in Washington, DC, on December 13, 2018, and all persons who requested the opportunity were permitted to appear in person or by counsel. Due to the lapse in appropriations and ensuing cessation of Commission operations, all import injury investigations conducted under authority of Title VII of the Tariff Act of 1930 accordingly have been tolled pursuant to 19 U.S.C 1671d(b)(2), 1673d(b)(2). A revised schedule was published on February 8, 2019 (84 FR 2926).

The Commission made these determinations pursuant to sections 705(b) and 735(b) of the Act (19 U.S.C. 1671d(b) and 19 U.S.C. 1673d(b)). It completed and filed its determinations in these investigations on March 15, 2019. The views of the Commission are contained in USITC Publication 4875 (March 2019), entitled Plastic Decorative Ribbon from China: Investigation Nos. 701-TA-592 and 731-TA-1400 (Final).

By order of the Commission.
Issued: March 15, 2019.
Katherine Hiner,
Acting Secretary to the Commission.

[FR Doc. 2019-05344 Filed 3-20-19; 8:45 am]

BILLING CODE 7020-02-P